DEPARTMENT OF TRANSPORTATION

Federal Aviation Administration

14 CFR Part 39

[Docket No. 2001-NE-13-AD]

RIN 2120-AA64

Airworthiness Directives; Rolls-Royce plc (RR) RB211-22B, RB211-524, and RB211-535 Series Turbofan Engines

AGENCY: Federal Aviation Administration, DOT.

ACTION: Supplemental notice of proposed rulemaking (SNPRM); reopening of comment period.

SUMMARY: This notice revises an earlier proposed airworthiness directive (AD), applicable to (RR) RB211-535E4 series turbofan engines. That proposal would have required disassembling and inspecting all the engine mounts for cracks, refurbishing the engine mounts, and replacing the front mount thrust link spherical bearing. That proposal was prompted by reports of corrosion and fatigue cracks in the mount pins, the spherical bearings, and the support links and their respective spherical bearings. This action revises the proposed rule by expanding the applicability from RB211-535E4 series turbofan engines to include RB211-22B, RB211-524, and RB211-535 series turbofan engines, and by requiring the installation of a front engine mount housing and link support assembly that has a serialized, life limited spherical bearing installed. This action also revises the proposed rule by eliminating the requirements for disassembling and inspecting all the engine mounts for cracks, and refurbishing the engine mounts. The actions specified by this proposed AD are intended to prevent failure of the front engine mount housing and link support assembly due to cracks, that could result in loss of the engine.

DATES: Comments must be received by September 29, 2003.

ADDRESSES: Submit comments in triplicate to the Federal Aviation Administration (FAA), New England Region, Office of the Regional Counsel, Attention: Rules Docket No. 2001-NE-13-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in the proposed rule may be obtained from Rolls-Royce plc, P.O. Box 31 Derby, DE24 8BJ, United Kingdom; telephone 011-44-1332-242424; fax 011-44-1332-249936. This information may be examined, by appointment, at the FAA, New England Region, Office of the Regional Counsel, 12 New England Executive Park, Burlington, MA.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NE-13-AD.” The postcard will be date stamped and returned to the commenter.

Availability of NPRM's

Any person may obtain a copy of this NPRM by submitting a request to the FAA, New England Region, Office of the Regional Counsel, Attention: Rules Docket No. 2001-NE-13-AD, 12 New England Executive Park, Burlington, MA 01803-5299.

Discussion

A proposal to amend part 39 of the Federal Aviation Regulations (14 CFR part 39) to add an airworthiness directive (AD), applicable to RB211-535E4 series turbofan engines, was published as a notice of proposed rulemaking (NPRM) in the Federal Register on February 26, 2002 (67 FR 8739). That NPRM would have required disassembling and inspecting all engine mounts for cracks, refurbishing the engine mounts, and replacing the front mount thrust link spherical bearing. That NPRM was prompted by reports of corrosion and fatigue cracks in the mount pins, the spherical bearings, and the support links and their respective spherical bearings. That condition, if not corrected, could result in failure of the engine mounts due to cracks that could result in loss of an engine.

Since that NPRM was issued, the FAA has become aware that the Civil Aviation Authority (CAA), which is the aviation authority for the U.K., has cancelled AD 004-08-2000, which addresses the subject of the NPRM, and that RR has downgraded the category of Service Bulletin (SB) RB.211-71-5291, Revision 14, dated March 13, 2001, which required compliance of that SB in the NPRM, to recommended. RR has since issued a mandatory SB RB.211-71-D437, Revision 1, dated February 28, 2003, which introduces a serialized, life-limited, spherical bearing for the engine front mount housing and link support assembly and introduced the inspection requirements of the engine front and rear mounts in the Time Limit Manual. Therefore, the compliance with the requirements of the SB RB.211-71-5291 is no longer required.

The CAA has also issued AD 005-04-2002, dated April 2002, to mandate compliance with the new requirements as per the RR Service Bulletin (SB) RB.211-71-D437, Revision 1, dated February 28, 2003.

Since this change expands the scope of the originally proposed rule, the FAA has determined that it is necessary to reopen the comment period to provide additional opportunity for public comment.

Manufacturer's Service Information

The FAA has reviewed and approved the technical contents of RR SB RB.211-71-D437, Revision 1, dated February 28, 2003, that introduces new production engine front mount housing and link support assemblies and describes procedures for reworking existing engine front mount housing and link support assemblies by installing a new serialized bearing.

FAA's Determination of an Unsafe Condition and Proposed Actions

Since an unsafe condition has been identified that is likely to exist or develop on RR RB211-22B, RB211-524, and RB211-535 series turbofan engines installed on U.S. registered aircraft, the proposed AD would require the installation of a front engine mount housing and link support assembly that has a serialized, life limited spherical bearing installed, by either installing a new assembly or reworking the existing assembly. The actions must be done at the next Module 04 shop visit after the effective date of the AD but no later than April 1, 2011, in accordance with the MSB described previously.

Economic Analysis

There are approximately 2,214 RR RB211-22B, RB211-524, and RB211-535 series turbofan engines of the affected design in the worldwide fleet. The FAA estimates that about 620 RB211-535 engines, and about 45 RB211-524 and RB211-22B engines installed on airplanes of U.S. registry, would be affected by this proposed AD. The FAA also estimates that no additional labor costs would be incurred to perform the proposed actions. The FAA anticipates that the new hardware will be installed while the module is inducted into the shop for routine maintenance inspection before the compliance expiration date of this AD. The cost of a new serialized spherical bearing is approximately $592 for RB211-535 engines, $895 for RB211-524 engines, and $1,990 for RB211-22B engines. Based on these figures, the total cost of the proposed AD to U.S. operators is estimated to be $493,975.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Rolls-Royce plc: Docket No. 2001-NE-13-AD.

Applicability This airworthiness directive (AD) is applicable to Rolls-Royce plc (RR) RB211-22B, RB211-524, and RB211-535 series turbofan engines. These engines are installed on, but not limited to Boeing 747, 757, 767, Lockheed L-1011, and Tupolev Tu204-120 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent failure of the front engine mount due to cracks, that could result in loss of the engine, do the following at the next Module 04 shop visit after the effective date of this AD, but no later than April 1, 2011:

(a) Replace existing engine front mount housing and link support assembly listed in Table 1 of this AD with new production part number (P/N) front mount housing and link support assembly, or with a reworked assembly, in accordance with paragraph 3 of Accomplishment Instructions of Mandatory Service Bulletin (MSB) No. RB211-71-D437, Revision 1, dated February 28, 2003. Table 1 follows:

Table 1.—Front Mount Housing and Link Support Assembly Existing P/Ns and Reworked P/Ns
Existing P/N | New production or reworked P/N
LK83038 | FW18695
LK83047 | FW18686
LK83057 | FW18691
LK83072 | FW18696
LK83110 | FW18697
LK83114 | FW18698
UL10472 | FW18694
UL25694 | FW18688
UL27054 | FW18687
UL27601 | FW18693
UL27612 | FW18689
UL27613 | FW18684

(b) Mark the Modules 04 after the rework with new P/N as specified in the following Table 2:

Table 2.—Module 04 Reworked
P/N
Existing P/N | Reworked P/N
MO7127 | MO7159
MO7130 | MO7156
MO7133 | MO7153
MO7134 | MO7152
MO7135 | MO7154
MO7149 | MO7158
MO7150 | MO7155
MO7151 | MO7157
MO7202 | MO7214
MO7206 | MO7216
MO7207 | MO7215
MO7208 | MO7213

(c) Information on engine front mount housing and link support assembly disassembly, inspection, replacement of the time limited spherical bearing, and reassembly, can be found in RR Engine Manual, section 71-21-01.

Alternative Methods of Compliance

(d) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(e) Special flight permits may be issued in accordance with §§ 21.197 and 21.199 of the Federal Aviation Regulations (14 CFR 21.197 and 21.199) to operate the airplane to a location where the requirements of this AD can be done.

Note 3: The subject of this AD is addressed in CAA airworthiness directive 005-04-2002, dated April 2002.

Issued in Burlington, Massachusetts, on July 24, 2003.
Francis A. Favara,
Acting Manager, Engine and Propeller Directorate, Aircraft Certification Service.

[FR Doc. 03-19482 Filed 7-30-03; 8:45 am]

BILLING CODE 4910-13-P